DEPARTMENT OF ENERGY

Federal Energy Regulatory Commission

[Docket No. AD03-11-000]

Southwestern Gas Storage Technical Conference; Notice of Public Conference

June 19, 2003.

Take notice that on August 26, 2003, at 9 a.m. m.s.t. in Phoenix, Arizona, the Staff of the Federal Energy Regulatory Commission (FERC or Commission) will convene a technical conference with interested parties to discuss issues related to natural gas storage development in the southwestern United States. By order issued on June 4, 2003, in Docket Nos. CP02-420-000 et al., the Commission directed that a technical conference be held to begin analysis of relevant market needs and regulatory options available to the Commission to assure the appropriate development of southwestern natural gas storage facilities and markets ¹. Persons interested in speaking or making a presentation should indicate their interest no later than July 11, 2003, by a letter addressed to the Secretary, Federal Energy Regulatory Commission, 888 First Street, NE., Washington, DC 20426, and should refer to Docket No. AD03-11-000. Each request to participate must include the name of a contact person, their telephone number and e-mail address. There is no need to provide advance notice to the Commission simply to attend the conference.

¹ For the purpose of this conference, the Southwest is generally defined as west Texas, New Mexico, Arizona, southern Nevada, and southern California.

In order to more clearly focus the discussion at the conference, potential presenters should consider the following questions and present their responses at the conference:

• What potential projects are currently under consideration by the industry for developing gas storage in the Southwest?

• Should the Commission initiate an open-season approach for storage development proposals, in which all potential projects are filed at the same time?

• What types of storage services are necessary or envisioned? Who will contract for these services?

• What type of storage facilities can physically be constructed (i.e. salt cavern, depleted oil/gas reservoirs, aquifer type, etc.)?

• What environmental and cultural resources issues would affect the development of gas storage facilities in the Southwest?

• What are the concerns of Native Americans in the development of natural gas storage facilities in the southwest?

Comments addressing or identifying Southwestern natural gas storage issues may also be filed by July 11, 2003. Every effort will be made to accommodate requests to make presentations, but depending on the number of requests received, a limit may have to be placed on the number of presenters and the time allowed for presentations. To provide for a more productive conference, where practicable interested persons/parties should coordinate their efforts and choose one spokesperson to make a statement on behalf of a group where interests coincide.

In a subsequent notice, we will provide further details on the conference, including the agenda and a list of participants, as plans evolve. For additional information, please contact Elizabeth Anklam in the Office of Energy Projects, phone: (202) 502-8635, email: elizabeth.anklam@ferc.gov.

Magalie R. Salas,
Secretary.

[FR Doc. 03-16196 Filed 6-25-03; 8:45 am]

BILLING CODE 6717-01-P